DEPARTMENT OF COMMERCE

National Oceanic and Atmospheric Administration

[RTID 0648-XF087]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council (Council) will hold public meetings of the Council and its Executive Committee.

DATES: The meetings will be held Tuesday, October 7 through Thursday, October 9, 2025. For agenda details, see SUPPLEMENTARY INFORMATION.

ADDRESSES: This meeting will be an in-person meeting with a virtual option. Council members, other meeting participants, and members of the public will have the option to participate in person at The Notary Hotel Philadelphia (21 North Juniper Street, Philadelphia, PA 19107) or virtually via Webex webinar. Webinar connection instructions and briefing materials will be available at: https://www.mafmc.org/briefing/october-2025.

Council address: Mid-Atlantic Fishery Management Council, 800 N State St., Suite 201, Dover, DE 19901; telephone: (302) 674-2331; www.mafmc.org.

FOR FURTHER INFORMATION CONTACT: Christopher M. Moore, Ph.D., Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible.)

Tuesday, October 7th

Executive Committee (Closed Session)

Review 2025 Ricks E Savage Award nominations

Executive Committee (Open Session)

Review draft deliverables of 2026 Implementation Plan

———LUNCH———

Recreational Tilefish Permitting and Reporting Framework Meeting #1

Review current reporting requirements and recommendations from the 2024 program evaluation

Provide guidance on preliminary draft alternatives

Merine Recreational Information Program (MRIP)

Review recent program actions, including Fishing Effort Survey (FES) improvements

Mackerel Rebuilding and 2026-2027 Specifications Framework, Including River Herring and Shad Cap: Meeting #1

Review draft alternatives

Adopt range of alternatives for further development and analysis

Wednesday, October 8th

Essential Fish Habitat (EFH) Amendment

Review and approve public hearing document

Gear Marking/On-Demand Gear Framework

Update from Plan Development Team/Fishery Management Action Team (PDT/FMAT)

Consider final action

———LUNCH———

Joint MAFMC-NEFMC Spiny Dogfish Framework (Including Accountability Measures Modifications and 2026-2027 Specifications) Meeting #2: Final Action

Review joint Committee recommendations

Review recommendations from the Scientific and Statistical Committee (SSC), Monitoring Committee, Advisory Panel, and staff

Select preferred alternatives and take final action

Joint NEFMC-MAFMC Monkfish Specifications Framework: Final Action

Review New England Fishery Management Council (NEFMC) actions

Review joint Committee recommendations

Review recommendations from the NEFMC SSC, Plan Development Team (PDT), and Advisory Panel

Select preferred alternatives and take final action

New England Fishery Management Council (NEFMC) Omnibus Management Flexibility Amendment: Monkfish Provisions

Review the monkfish sections of the Omnibus and NEFMC's preferred alternatives

Select preferred monkfish alternatives and take final action

Habitat Activities Update—Greater Regional Fisheries Office (GARFO) Habitat and Ecosystem Services Division

Presentation on activities of interest in the region

Atlantic Coast Regional Fisheries Compensation Program

Updates on development of a regional offshore wind fisheries compensation program

Thursday, October 9th

Business Session

Committee Reports (SSC); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: September 17, 2025.
Rey Israel Marquez,
Acting Deputy Director, Office of Sustainable Fisheries, National Marine Fisheries Service.

[FR Doc. 2025-18207 Filed 9-18-25; 8:45 am]

BILLING CODE 3510-22-P